DEPARTMENT OF ENERGY

Agency Information Collection Reinstatement

AGENCY: U.S. Department of Energy.

ACTION: Submission for Office of Management and Budget (OMB) review; public comment request.

SUMMARY: The Department of Energy (DOE), pursuant to the Paperwork Reduction Act of 1995), intends to extend for three years, an information collection request with the Office of Management and Budget (OMB). The information collection request, Historic Preservation for Energy Efficiency Programs, was initially approved on December 1, 2010 under OMB Control No. 1910-5155 and expired on September 30, 2015. The reinstatement will allow DOE to continue data collection on the status of the Weatherization Assistance Program (WAP), the State Energy Program (SEP), and the Energy Efficiency and Conservation Block Grant (EECBG) program.

Program activities will ensure compliance with Section 106 of the National Historic Preservation Act (NHPA). Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before June 27, 2016. If you anticipate difficulty in submitting comments within that period, contact the person listed below as soon as possible.

ADDRESSES: Written comments may be sent to Sallie Glaize, EE-52, U.S. Department of Energy, 1000 Independence Ave. SW., Washington, DC 20585 or by email to sallie.glaize@ee.doe.gov.

FOR FURTHER INFORMATION CONTACT: James Carlisle, EE-5W, U.S. Department of Energy, 1000 Independence Ave. SW., Washington, DC 20585 or by email to James.Carlisle@ee.doe.gov.

Additional information and reporting guidance concerning the Historic Preservation reporting requirement for the WAP, SEP, and EECBG programs are available for review at: http://www1.eere.energy.gov/wip/historic.preservation.html.

SUPPLEMENTARY INFORMATION: This information collection request contains: (1) OMB No.: 1910-5155; (2) Information Collection Request Title: Historic Preservation for Energy Efficiency Programs; (3) Type of Review: Reinstatement; (4) Purpose: To collect data on the status of the WAP, SEP and EECBG Program activities to ensure compliance with Section 106 of the NHPA; (5) Annual Estimated Number of Respondents: 275; (6) Annual Estimated Number of Total Responses: 275; (7) Annual Estimated Number of Burden Hours: 662; (8) Annual Estimated Reporting and Recordkeeping Cost Burden: $0.

Statutory Authority: Pub. L. 89-665.

Issued in Washington, DC on April 20, 2016.
James Carlisle,
Supervisory Policy Advisor, Weatherization and Intergovernmental Office of Energy Efficiency and Renewable Energy, U.S. Department of Energy.

[FR Doc. 2016-09834 Filed 4-26-16; 8:45 am]

BILLING CODE 6450-01-P